DEPARTMENT OF ENERGY

Federal Energy Regulatory Commission

Combined Notice of Filings #1

Take notice that the Commission received the following electric corporate filings:

Docket Numbers: EC19-68-001.

Applicants: Clearway Energy Group LLC, Clearway Energy, Inc.

Description: Request for Reauthorization and Extension of Blanket Authorizations Under Section 203 of the Federal Power Act of Clearway Energy Group LLC, et al.

Filed Date: 1/24/22.

Accession Number: 20220124-5204.

Comment Date: 5 p.m. ET 2/14/22.

Docket Numbers: EC22-12-000.

Applicants: Calhoun Power Company, LLC, Alabama Power Company.

Description: Supplement [Exhibit B—Model Protective Order] for Non-Public Versions Filed in the January 21, 2022 Deficiency Letter Response of Calhoun Power, LLC.

Filed Date: 1/21/22.

Accession Number: 20220121-5222.

Comment Date: 5 p.m. ET 2/11/22.

Take notice that the Commission received the following Complaints and Compliance filings in EL Dockets:

Docket Numbers: EL19-58-010.

Applicants: PJM Interconnection, L.L.C.

Description: Compliance filing: Compliance EL19-58 & ER19-1486 Request 7-Day Comment Period & Exp. Consideration to be effective N/A.

Filed Date: 1/21/22.

Accession Number: 20220121-5188.

Comment Date: 5 p.m. ET 1/31/22.

Take notice that the Commission received the following electric rate filings:

Docket Numbers: ER20-1385-002; ER19-828-004; ER20-539-004; ER20-1338-003; ER20-1853-001; ER20-2505-002; ER20-2506-001.

Applicants: Dakota Range III, LLC, Triple H Wind Project, LLC, Whitehorn Solar LLC, King Plains Wind Project, LLC, East Fork Wind Project, LLC, Solomon Forks Wind Project, LLC, Bluestone Farm Solar, LLC.

Description: Notice of Non-Material Change in Status of Bluestone Farm Solar, LLC, et al.

Filed Date: 1/24/22.

Accession Number: 20220124-5202.

Comment Date: 5 p.m. ET 2/14/22.

Docket Numbers: ER20-1968-001; ER20-2100-003.

Applicants: The Dayton Power and Light Company, PJM Interconnection, L.L.C., Alkali Solar LLC.

Description: Compliance Filing of The Dayton Power and Light Company with respect to the Clinton 345 kV/69 kV Transformer Project.

Filed Date: 1/24/22.

Accession Number: 20220124-5201.

Comment Date: 5 p.m. ET 2/14/22.

Docket Numbers: ER22-876-000.

Applicants: Minco Wind II, LLC.

Description: Tariff Amendment: Minco Wind II, LLC Notice of Cancellation of Market-Based Rate Tariff to be effective 1/26/2022.

Filed Date: 1/25/22.

Accession Number: 20220125-5062.

Comment Date: 5 p.m. ET 2/15/22.

Docket Numbers: ER22-877-000.

Applicants: Minco Wind III, LLC.

Description: Tariff Amendment: Minco Wind III, LLC Notice of Cancellation of Market-Based Rate Tariff to be effective 1/26/2022.

Filed Date: 1/25/22.

Accession Number: 20220125-5064.

Comment Date: 5 p.m. ET 2/15/22.

Docket Numbers: ER22-878-000.

Applicants: California Independent System Operator Corporation.

Description: § 205(d) Rate Filing: 2022-01-25 Contracts Management Enhancements to be effective 3/27/2022.

Filed Date: 1/25/22.

Accession Number: 20220125-5065.

Comment Date: 5 p.m. ET 2/15/22.

Docket Numbers: ER22-879-000.

Applicants: Lone Valley Solar Park I LLC.

Description: § 205(d) Rate Filing: Notice of Change in Category Seller Status in the SW Region to be effective 1/26/2022.

Filed Date: 1/25/22.

Accession Number: 20220125-5075.

Comment Date: 5 p.m. ET 2/15/22.

Docket Numbers: ER22-880-000.

Applicants: Lone Valley Solar Park II LLC.

Description: § 205(d) Rate Filing: Notice of Change in Category Seller Status in the SW Region to be effective 1/26/2022.

Filed Date: 1/25/22.

Accession Number: 20220125-5083.

Comment Date: 5 p.m. ET 2/15/22.

Docket Numbers: ER22-881-000.

Applicants: Rising Tree Wind Farm LLC.

Description: § 205(d) Rate Filing: Notice of Change in Category Seller Status in the SW Region to be effective 1/26/2022.

Filed Date: 1/25/22.

Accession Number: 20220125-5091.

Comment Date: 5 p.m. ET 2/15/22.

Docket Numbers: ER22-882-000.

Applicants: Rising Tree Wind Farm II LLC.

Description: § 205(d) Rate Filing: Notice of Change in Category Seller Status in the SW Region to be effective 1/26/2022.

Filed Date: 1/25/22.

Accession Number: 20220125-5095.

Comment Date: 5 p.m. ET 2/15/22.

Docket Numbers: ER22-883-000.

Applicants: Rising Tree Wind Farm III LLC.

Description: § 205(d) Rate Filing: Notice of Change in Category Seller Status in the SW Region to be effective 1/26/2022.

Filed Date: 1/25/22.

Accession Number: 20220125-5097.

Comment Date: 5 p.m. ET 2/15/22.

Docket Numbers: ER22-884-000.

Applicants: Tampa Electric Company.

Description: § 205(d) Rate Filing: Section 205 Revised Depreciation Rates to be effective 1/1/2022.

Filed Date: 1/25/22.

Accession Number: 20220125-5104.

Comment Date: 5 p.m. ET 2/15/22.

Docket Numbers: ER22-885-000.

Applicants: Evergreen Gen Lead, LLC.

Description: § 205(d) Rate Filing: Amended and Restated Facilities Use Agreement to be effective 1/26/2022.

Filed Date: 1/25/22.

Accession Number: 20220125-5122.

Comment Date: 5 p.m. ET 2/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2022.
Debbie-Anne A. Reese,
Deputy Secretary.

[FR Doc. 2022-01894 Filed 1-28-22; 8:45 am]

BILLING CODE 6717-01-P